DEPARTMENT OF TRANSPORTATION

Federal Aviation Administration

14 CFR Part 71

[Airspace Docket No. 00-ANM-24]

Revision of Class E Airspace, Jackson, WY

AGENCY: Federal Aviation Administration (FAA), DOT.

ACTION: Final rule; correction.

SUMMARY: This action corrects a final rule published on May 23, 2001, that inadvertently changed the name of Jackson, WY, to Jackson Hole, WY. This action corrects the final rule by reflecting the proper city name designation in the text body and in the legal description.

EFFECTIVE DATE: 0901 UTC, September 20, 2001.

FOR FURTHER INFORMATION CONTACT: Brian Durham, ANM-520.7, Federal Aviation Administration, Docket No. 00-ANM-24, 1601 Lind Avenue, SW., Renton, Washington, 98055-4056; telephone number: (425) 227-2527.

SUPPLEMENTARY INFORMATION: On May 23, 2001, the FAA published a final rule that revised Class E airspace at Jackson Hole, WY (66 FR 28368). However, that action incorrectly described the city as Jackson Hole instead of the proper name of Jackson throughout the document. This action corrects the final rule by changing the city name from Jackson Hole, WY, to Jackson, WY.

Correction to Final Rule

Accordingly, pursuant to the authority delegated to me, the Class E airspace description at Jackson, WY, as published in the Federal Register on May 23, 2001, (66 FR 28368), (Federal Register Document No. 01-13049) is corrected as follows:

§ 71.1 [Corrected]

1. On pages 28368 and 28369, correct all references to the city name in Docket 00-ANM-24 from “Jackson Hole, WY” to read “Jackson, WY”. References to the airport remain as published, Jackson Hole Airport.

Issued in Seattle, Washington, on August 15, 2001.
Daniel A. Boyle,
Assistant Manager, Air Traffic Division, Northwest Mountain Region.

[FR Doc. 01-21824 Filed 8-28-01; 8:45 am]

BILLING CODE 4910-13-M